NUCLEAR REGULATORY COMMISSION

[Docket Nos. 50-272 AND 50-311]

PSEG Nuclear, LLC, Salem Nuclear Generating Station, Unit Nos. 1 and 2; Environmental Assessment and Finding of No Significant Impact

The U.S. Nuclear Regulatory Commission (NRC) is considering issuance of an exemption from title 10 of the Code of Federal Regulations (10 CFR) part 50, Appendix R, sections III.G.3 and III.L.3, for Facility Operating Licenses Nos. DPR-70 and DPR-75, issued to PSEG Nuclear, LLC (the licensee), for operation of the Salem Nuclear Generating Station (Salem), Unit Nos. 1 and 2, located in Salem County, New Jersey. Therefore, as required by 10 CFR 51.21, the NRC is issuing this environmental assessment and finding of no significant impact.

Environmental Assessment

Identification of the Proposed Action

The proposed action would grant an exemption from: (1) The requirements of 10 CFR part 50, Appendix R, section III.G.3, “Fire protection of safe shutdown capability,” to the extent that a fixed suppression system must be installed in an area where alternative shutdown capability is provided for Fire Areas 1(2)-FA-AB-64B and 1(2)-FA-AB-84C; (2) the requirements of 10 CFR part 50, Appendix R, section III.L.3, “Alternative and dedicated shutdown capability,” to the extent that alternative shutdown capability must accommodate conditions where offsite power is not available for 72 hours in Fire Areas 1(2)-FA-AB-64B and 1(2)-FA-AB-84B; and (3) the requirements of 10 CFR part 50, Appendix R, section III.L.3, relating to the use of separation in an alternate shutdown area for Fire Area 1(2)-FA-AB-84B.

The proposed action is in accordance with the licensee's application dated May 1, 2002, as supplemented on August 15, 2002.

The Need for the Proposed Action

The proposed exemption from sections III.G.3 and III.L.3 of 10 CFR part 50, Appendix R, is needed to resolve issues relating to an October 8, 1997, notice of violation whereby PSEG failed to adequately qualify the Kaowool, FS-195 and Interam E-50 electrical raceway fire barrier systems (ERFBSs) installed at Salem. Resolution of these issues include: (1) A re-analysis of post-fire safe shutdown capability; (2) plant modifications to provide alternative safe shutdown capability through cross-tie connections between the Salem, Unit Nos. 1 and 2, Chemical and Volume Control Systems; and (3) superceding current exemptions applicable to Fire Areas 1(2)-FA-AB-64B, 1(2)-FA-AB-84B and 1(2)-FA-AB-84C with the proposed exemptions.

Environmental Impacts of the Proposed Action

The NRC has completed its evaluation of the proposed action and concludes that the proposed exemption does not involve radioactive wastes, release of radioactive material into the atmosphere, solid radioactive waste, or liquid effluents released to the environment.

The proposed action will not significantly increase the probability or consequences of accidents, no changes are being made in the types of effluents that may be released off site, and there is no significant increase in occupational or public radiation exposure. Therefore, there are no significant radiological environmental impacts associated with the proposed action.

With regard to potential nonradiological impacts, the proposed action does not have a potential to affect any historic sites. It does not affect nonradiological plant effluents and has no other environmental impact. Therefore, there are no significant nonradiological environmental impacts associated with the proposed action.

Accordingly, the NRC concludes that there are no significant environmental impacts associated with the proposed action.

Environmental Impacts of the Alternatives to the Proposed Action

As an alternative to the proposed action, the staff considered denial of the proposed action (i.e., the “no-action” alternative). Denial of the application would result in no change in current environmental impacts. The environmental impacts of the proposed action and the alternative action are similar.

Alternative Use of Resources

The action does not involve the use of any different resources than those previously considered in the Final Environmental Statement related to operation of Salem Nuclear Generating Station, Units 1 and 2, dated April 1973.

Agencies and Persons Consulted

On March 26, 2003, the staff consulted with the New Jersey State official, Mr. Dennis Zannoni of the New Jersey Department of Environmental Protection, regarding the environmental impact of the proposed action. The State official had no comments.

Finding of No Significant Impact

On the basis of the environmental assessment, the NRC concludes that the proposed action will not have a significant effect on the quality of the human environment. Accordingly, the NRC has determined not to prepare an environmental impact statement for the proposed action.

For further details with respect to the proposed action, see the licensee's letter dated May 1, 2002, and supplement dated August 15, 2002. Documents may be examined, and/or copied for a fee, at the NRC's Public Document Room (PDR), located at One White Flint North, Public File Area O1 F21, 11555 Rockville Pike (first floor), Rockville, Maryland. Publicly available records will be accessible electronically from the Agencywide Documents Access and Management System (ADAMS) Public Electronic Reading Room on the Internet at the NRC Web site, http://www.nrc.gov/reading-rm/adams.html. Persons who do not have access to ADAMS or who encounter problems in accessing the documents located in ADAMS, should contact the NRC's PDR reference staff by telephone at 1-800-397-4209 or 301-415-4737, or by e-mail to pdr@nrc.gov.

Dated in Rockville, Maryland, this 22nd day of April, 2003.
For the Nuclear Regulatory Commission.
James W. Clifford,
Chief, Section 2, Project Directorate I, Division of Licensing Project Management, Office of Nuclear Reactor Regulation.

[FR Doc. 03-10490 Filed 4-28-03; 8:45 am]

BILLING CODE 7590-01-P